DEPARTMENT OF ENERGY

Federal Energy Regulatory Commission

[Docket No. RP00-507-000]

Amoco Energy Trading Corporation, Amoco Production Company, and Burlington Resources Oil & Gas Company v. El Paso Natural Gas Company; Notice of Technical Conference

February 18, 2000.

On November 10, 1999, the Commission issued an “Order of Complaint Establishing Procedures” which required El Paso Natural Gas Company (El Paso) to file a proposal to change its capacity allocation methods and directed the Commission Staff to convene a technical conference in the proceeding, Amoco Energy Trading Corporation, et al. v. El Paso Natural Gas Company, 89 FERC ¶ 61,165 (1999).

Pursuant to that order, a technical conference will be held on Thursday, March 9, 2000, at 10 a.m., in the Commission Meeting Room, Room 2C, at the offices of the Federal Energy Regulatory Commission, 888 First Street, NE, Washington, DC 20426. The purpose of the conference will be to discuss El Paso's February 9, 2000 proposal to change its current allocation methods and all issues related to the allocation of receipt and delivery points on El Paso's system.

All interested parties are permitted to attend.

David P. Boergers,
Secretary.

[FR Doc. 00-4445 Filed 2-24-00; 8:45 am]

BILLING CODE 6717-01-M